GENERAL SERVICES ADMINISTRATION

[OMB Control No. 3090-00XX; Docket No. 2016-0001; Sequence 11]

Information Collection; Alliant2 Greenhouse Gas Disclosure

AGENCY: Federal Acquisition Service (FAS), General Services Administration (GSA).

ACTION: Notice of request for comments regarding a new request for an OMB clearance.

SUMMARY: Under the provisions of the Paperwork Reduction Act, the Regulatory Secretariat Division will be submitting to the Office of Management and Budget (OMB) a request to review and approve a new information collection requirement regarding OMB Control No: 3090-00XX; Alliant2 Greenhouse Gas Disclosure.

DATES: Submit comments on or before October 24, 2016.

ADDRESSES: Submit comments identified by Information Collection 3090-00xx; Alliant2 Greenhouse Gas Disclosure by any of the following methods:

• Regulations.gov: http://www.regulations.gov. Submit comments via the Federal eRulemaking portal by searching for “Information Collection 3090-00xx; Alliant2 Greenhouse Gas reporting”. Select the link “Submit a Comment” that corresponds with “Information Collection 3090-00xx; Alliant2 Greenhouse Gas Disclosure”. Follow the instructions provided at the “Submit a Comment” screen. Please include your name, company name (if any), and “Information Collection 3090-00xx; Alliant2 Greenhouse Gas Disclosure” on your attached document.

• Mail: General Services Administration, U.S. General Services Administration, Regulatory Secretariat Division (MVCB), 1800 F Street NW., Washington, DC 20405. ATTN: Ms. Flowers/IC 3090-00XX, Alliant2 Greenhouse Gas Disclosure.

Instructions: Please submit comments only and cite Information Collection 3090-00XX; Alliant2 Greenhouse Gas Disclosure, in all correspondence related to this collection. Comments received generally will be posted without change to http://www.regulations.gov, including any personal and/or business confidential information provided. To confirm receipt of your comment(s), please check www.regulations.gov, approximately two to three days after submission to verify posting (except allow 30 days for posting of comments submitted by mail).

FOR FURTHER INFORMATION CONTACT: Dana Arnold, Director, Federal Acquisition Service Office of Acquisition Management, Special Programs Branch at telephone 703-605-0534 or via email to dana.arnold@gsa.gov.

SUPPLEMENTARY INFORMATION:

A. Purpose

President Obama has made Greenhouse Gas (GHG) emissions reduction nationwide and in the Federal community a priority. The President's Executive Order 13693, Planning for Federal Sustainability in the Next Decade, published in the Federal Register at 80 FR 15871, on March 25, 2015], requires the seven largest procuring agencies to implement procurements that take into consideration contractor GHG emissions and GHG management practices.

GSA has selected the Alliant2 Government-wide Acquisition Contract (GWAC) acquisition for inclusion of contractor GHG emissions disclosure requirements. Alliant, GSA's premier enterprise GWAC, provides flexible access to customized IT solutions from a large, diverse pool of industry partners. Alliant2 offers both large and small contractors. It is GSA's intent to require the large (unrestricted) Alliant2 contractors to inventory and publicly disclose their operational GHG emissions, set targets for reducing those emissions, and disclose progress toward meeting their targets. Of the current Alliant2 contractors, approximately 40 percent already publicly disclose their GHG emissions in response to requests from their non-government customers, investors, insurers, and corporate sustainability policies.

Public disclosure of GHG emissions and GHG reduction goals or targets has become standard practice in many industries, and companies are increasingly asking their own suppliers about their GHG management practices. More than 4,000 companies provided public disclosure through third-party organization CDP (formerly the Carbon Disclosure Project) in 2015. Performing a GHG inventory provides insight into operations and opportunities for energy and operational savings that can result in both environmental and financial benefits.

The Allliant2 GHG disclosure requirement will require the unrestricted (large and medium-sized) Alliant2 contractors to inventory, and publicly disclose their operational GHG emissions, set targets for reducing those emissions, and report progress toward meeting their targets. This will be an annual requirement.

B. Annual Reporting Burden

Respondents: 60.

Responses per Respondent: 1.

Total Annual Responses: 60.

Hours per Response: 80.

Total Burden Hours: 4800.

C. Public Comments

Public comments are particularly invited on: Whether this collection of information is necessary, whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Obtaining Copies of Proposals: Requesters may obtain a copy of the information collection documents from the General Services Administration, Regulatory Secretariat Division (MVCB), 1800 F Street NW., Washington, DC 20405, telephone 202-501-4755. Please cite OMB Control No. 3090-00XX, Alliant2 Greenhouse Gas Disclosure, in all correspondence.

Dated: August 18, 2016.
David A. Shive,
Chief Information Officer.

[FR Doc. 2016-20314 Filed 8-23-16; 8:45 am]

BILLING CODE 6820-34-P